DEPARTMENT OF THE INTERIOR

Fish and Wildlife Service

Notice of Availability of the Draft Comprehensive Conservation Plan and Environmental Assessment for Fish Springs National Wildlife Refuge, Dugway, UT

AGENCY: Fish and Wildlife Service, Interior.

ACTION: Notice of availability.

SUMMARY: The U.S. Fish and Wildlife Service (Service) announces that the Draft Comprehensive Conservation Plan and Environmental Assessment (CCP/EA) for the Fish Springs National Wildlife Refuge (Refuge) is available for public review and comment. This Draft CCP/EA was prepared pursuant to the National Wildlife Refuge System Administration Act, as amended, and the National Environmental Policy Act (NEPA). The Draft CCP/EA describes the Service's proposal for management of the Refuge for 15 years.

DATES: Written comments must be received at the postal or electronic addresses listed below by August 18, 2004. Comments may also be submitted VIA electronic mail to: toni_griffin@fws.gov.

ADDRESSES: To provide written comments or to obtain a copy of the Draft CCP/EA, please write to Toni Griffin, Planning Team Leader, U.S. Fish and Wildlife Service, P.O. Box 25486, Denver Federal Center, Denver, CO 80225-0486; (303) 236-4378; fax (303) 236-4792 or Jay Banta, Refuge Manager, Fish Springs National Wildlife Refuge, P.O. Box 568, Dugway, Utah 84022; (435) 831-5353; fax (435) 831-5354. The Draft CCP/EA will also be available for viewing and downloading online at http://mountain-prairie.fws.gov/planning.

FOR FURTHER INFORMATION CONTACT: Toni Griffin, Planning Team Leader at the above address or at (303) 236-4378.

SUPPLEMENTARY INFORMATION: The National Wildlife System Administration Act of 1966, as amended by the National Wildlife Refuge Improvement Act of 1997 (16 U.S.C. 668dd-668ee et seq.), requires the Service to develop a CCP for the Refuge. The purpose in developing a CCP is to provide refuge managers with a 15-year strategy for achieving refuge purposes and contributing toward the mission of the National Wildlife Refuge System, consistent with sound principles of fish and wildlife science, conservation, legal mandates, and Service policies. In addition to outlining broad management direction on conserving wildlife and their habitats, the CCP identifies wildlife-dependent recreational opportunities available to the public, including opportunities for hunting, wildlife observation and photography, and environmental education and interpretation. We will review and update these CCPs at least every 15 years in accordance with the National Wildlife Refuge System Administration Act of 1966, as amended by the National Refuge System Improvement Act of 1997, and the National Environmental Policy Act of 1969 (42 U.S.C. 4321-4370d).

Background: Fish Springs National Wildlife Refuge was established under the Migratory Bird Conservation Act (MBCA) by the Migratory Bird Conservation Commission. The stated purpose is “* * * for use as an inviolate sanctuary, or for any other management purpose, for migratory birds.” 16 U.S.C. 715d (Migratory Bird Act)

Significant issues addressed in the Draft CCP/EA include: habitat and wildlife management, ecological integrity, visitor services, cultural resources, and partnerships. The Service developed three alternatives for management of the Refuge: Alternative A—No Action; Alternative B—Restoration; Alternative C—Enhanced Habitat Management and Public Use. All three alternatives outline specific management objectives and strategies related to wildlife and habitat management, ecological integrity, visitor services, cultural resources, and partnerships.

Alternative A—No Action (Current Management) focuses on managing water in nine marsh units to meet the life cycle needs of waterfowl, shorebirds, and water birds. The marsh units are currently rotated through a 5-year drawdown schedule according to the Marsh Management Plan approved in 1991. In addition, the units drawn down each year are burned according to a prescribed fire plan approved in August 2002. Visitation to Fish Springs currently ranges between 2000 and 3100 visitors each year. Up to 40 percent of the Refuge is open for duck and coot hunting each year. Waterfowl hunting remains the greatest recreational interest. Continuing to provide educational and interpretive opportunities for visitors will enhance understanding and appreciation of the wildlife and cultural resources represented on the Refuge. Efforts to inventory and analyze unmapped cultural resource sites and fully understand known sites will continue. Continuing to foster and increase opportunities for participation in conservation initiatives, such as the Eastern Bonneville partnership, will help the Refuge maximize its contribution to natural resource conservation.

Alternative B—Restoration, will restore, maintain and enhance the Refuge's original hydrological system and high-desert shrubland habitat to a condition resembling their historic nature prior to Refuge development. Marsh restoration will ensure that habitat that is critical to maintain the flora and fauna that historically inhabited the Refuge is provided. Marsh restoration will call for the removal of all dikes and water control structures. High-desert shrubland will be restored to its historic native composition benefiting those species dependent on this habitat type, such as kit fox, Bonneville pocket gopher, loggerhead shrike, black-throated sparrow, and neotropical migrants. Visitor services will change slightly under the restoration alternative, with more emphasis placed on non-consumptive uses, such as environmental education, interpretation, wildlife observation and photography. The shift in visitor services is due mainly to the removal of water control structures (i.e. dikes and roads) which will limit vehicle access. The current hunting program will continue with the addition of a goose hunt. Access to hunting areas will be provided via boat and/or foot passage, promoting a remote hunting experience. Restoration and subsequent monitoring of the marsh ecosystem will provide expanded opportunities for interpretation and environmental education.

Alternative C—Enhanced Habitat Management and Visitor Services, the Service's Proposed Action, emphasizes the utilization of Fish Springs NWR by a diversity of migratory birds. Marshes will continue to be managed for waterfowl, shorebirds, and water birds. Current marsh water management will continue, with few minor modifications to improve foraging and nesting habitat for shorebirds and water birds. High-desert shrublands will be restored to historic native composition, thereby benefiting those species dependent on this habitat type, such as kit fox, Bonneville pocket gopher, loggerhead shrike, black-throated sparrow, and neotropical migrants. One of the five major thermal springs that arise from a fault line at the base of the east slope of the Fish Springs Range will be restored to its historic natural condition providing habitat that is critical to maintain the flora and fauna that historically inhabited the Refuge. Restoration and subsequent monitoring of the marsh ecosystem will provide expanded opportunities for interpretation and environmental education. Increased efforts in visitor services and the addition of a goose hunt to the current hunting program will attract more visitors to the Refuge. The Refuge will maintain an auto-tour route which traverses a cross section of the habitats and provides opportunity for wildlife viewing and photography. The construction of an interpretive boardwalk and an observation platform will further enhance wildlife viewing and photography.

The review and comment period is 30 calendar days commencing with publication of this Notice of Availability in the Federal Register. After the review and comment period for this Draft CCP/EA, all comments will be analyzed and considered by the Service. All comments received from individuals on the Environmental Assessment become part of the official public record. Requests for such comments will be handled in accordance with the Freedom of Information Act, the Council on Environmental Quality's NEPA regulations (40 CFR 1506.6(f)) and other Service and Departmental policies and procedures.

Dated: July 14, 2004.
John A. Blankenship,
Deputy Regional Director, Region 6.

[FR Doc. 04-16409 Filed 7-19-04; 8:45 am]

BILLING CODE 4310-55-P